DEPARTMENT OF LABOR

Office of the Secretary

Submission for OMB Review: Comment Request

November 30, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. A copy of this ICR, with applicable supporting documentation, may be obtained at http://www.reginfo.gov/public/do/PRAMain, or contact Ira Mills on 202-693-4122 (this is not a toll-free number) or E-Mail: Mills.Ira@dol.gov.

Comments should be sent to Office of Information and Regulatory Affairs, Attn: OMB Desk Officer for U.S. Department of Labor/Employment and Training Administration (ETA), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Revision.

Title: Trade Adjustment Assistance (TAA) Program Reserve Funding Request Form.

OMB Number: 1205-0275.

Frequency: Annually.

Affected Public: State, local or tribal government.

Type of Response: Reporting.

Number of Respondents: 25.

Annual Responses: 2 hours.

Total Annual Burden Hours: 50.

Total Annualized Capital/Startup Costs: 0.

Total Annual Costs (operating/maintaining systems or purchasing services): 0.

Description: The Department of Labor provides benefits and services to trade-certified individuals under the Trade Adjustment Assistance (TAA) program administered by State Workforce Agencies (SWA). The ETA-9117 (formerly ETA-9023) is required for the submission of request for TAA reserve training funds and job search and relocation allowances. Information collected on this form is also used in the development of formula base allocations awarded to States each year.

Ira L. Mills,
Departmental Clearance Officer.

[FR Doc. E6-20525 Filed 12-4-06; 8:45 am]

BILLING CODE 4510-30-P